DEPARTMENT OF ENERGY

Federal Energy Regulatory Commission

Combined Notice of Filings #1

Take notice that the Commission received the following exempt wholesale generator filings:

Docket Numbers: EG24-32-000.

Applicants: Jade Meadow LLC.

Description: Jade Meadow LLC submits Notice of Self-Certification of Exempt Wholesale Generator Status.

Filed Date: 11/17/23.

Accession Number: 20231117-5247.

Comment Date: 5 p.m. ET 12/8/23.

Take notice that the Commission received the following electric rate filings:

Docket Numbers: ER17-1329-001.

Applicants: J.P. Morgan Ventures Energy Corporation.

Description: Compliance filing: JPMVEC Q3 2023 Notice of Change in Status Compliance Filing to be effective 11/20/2023.

Filed Date: 11/20/23.

Accession Number: 20231120-5169.

Comment Date: 5 p.m. ET 12/11/23.

Docket Numbers: ER20-59-006; ER10-1874-018; ER10-1946-018; ER10-2201-006; ER10-2721-017; ER10-2861-014; ER12-1308-017; ER13-291-005; ER13-1504-015; ER14-1468-016; ER14-2140-015; ER14-2141-015; ER14-2465-017; ER14-2466-017; ER14-2939-014; ER15-632-016; ER15-634-016; ER15-1471-016; ER15-1672-015; ER15-1952-015; ER15-2728-016; ER16-612-003; ER16-711-013; ER16-915-009; ER16-2010-010; ER16-2520-007; ER16-2561-009; ER17-318-007; ER18-97-005; ER19-8-007; ER19-9-012; ER19-2287-007; ER19-2294-007; ER19-2305-007; ER20-57-005; ER20-58-005; ER20-339-005; ER20-422-005.

Applicants: FL Solar 1, LLC, Twiggs County Solar, LLC, FL Solar 4, LLC, GA Solar 3, LLC, Valencia Power, LLC, Mesquite Power, LLC, Goal Line L.P., Mankato Energy Center II, LLC, Sweetwater Solar, LLC, MS Solar 3, LLC, Three Peaks Power, LLC, Sunflower Wind Project, LLC, Grand View PV Solar Two LLC, Hancock Wind, LLC, Comanche Solar PV, LLC, Pio Pico Energy Center, LLC, Greeley Energy Facility, LLC, Maricopa West Solar PV, LLC, Pavant Solar LLC, Evergreen Wind Power II, LLC, Blue Sky West, LLC, Cottonwood Solar, LLC, CID Solar, LLC, Imperial Valley Solar Company (IVSC) 2, LLC, RE Camelot LLC, RE Columbia Two LLC, Selmer Farm, LLC, Mulberry Farm, LLC, KMC Thermo, LLC, SWG Arapahoe, LLC, EnergyMark, LLC, Palouse Wind, LLC, Fountain Valley Power, L.L.C., El Paso Electric Company, Marina Energy, LLC, Broad River Energy LLC, Mankato Energy Center, LLC, AZ Solar 1, LLC.

Description: Notice of Non-Material Change in Status of AZ Solar 1, LLC, et al.

Filed Date: 11/20/23.

Accession Number: 20231120-5075.

Comment Date: 5 p.m. ET 12/11/23.

Docket Numbers: ER23-426-004.

Applicants: California Independent System Operator Corporation.

Description: Compliance filing: 2023-11-20 NAESB Compliance Filing—Version 003.3 to be effective 2/1/2024.

Filed Date: 11/20/23.

Accession Number: 20231120-5164.

Comment Date: 5 p.m. ET 12/11/23.

Docket Numbers: ER23-2663-001.

Applicants: PJM Interconnection, L.L.C.

Description: Tariff Amendment: Submission of Response to Deficiency Letter, Original ISA, SA No. 7038 to be effective 12/31/9998.

Filed Date: 11/20/23.

Accession Number: 20231120-5143.

Comment Date: 5 p.m. ET 12/11/23.

Docket Numbers: ER24-154-000.

Applicants: BCE Los Alamitos, LLC.

Description: Supplement to October 19, 2023, BCE Los Alamitos, LLC Notice of Change in Status and Request for Cat 1 Seller Status in the SW Region to be effective 10/20/2023.

Filed Date: 11/17/23.

Accession Number: 20231117-5260.

Comment Date: 5 p.m. ET 11/27/23.

Docket Numbers: ER24-438-000.

Applicants: Jade Meadow LLC.

Description: Baseline eTariff Filing: Market-Based Rate Application to be effective 11/18/2023.

Filed Date: 11/17/23.

Accession Number: 20231117-5218.

Comment Date: 5 p.m. ET 12/8/23

Docket Numbers: ER24-440-000.

Applicants: PJM Interconnection, L.L.C.

Description: § 205(d) Rate Filing: Amendment to WMPA, Service Agreement No. 6129; Queue No. AF1-287 to be effective 1/22/2024.

Filed Date: 11/20/23.

Accession Number: 20231120-5044.

Comment Date: 5 p.m. ET 12/11/23.

Docket Numbers: ER24-442-000.

Applicants: Innovative Solar 42, LLC.

Description: Compliance filing: Notice of Non-Material Change in Status and Revised Market-Based Rate Tariff to be effective 11/21/2023.

Filed Date: 11/20/23.

Accession Number: 20231120-5061.

Comment Date: 5 p.m. ET 12/11/23.

Docket Numbers: ER24-443-000.

Applicants: Deriva Energy Services, LLC.

Description: Compliance filing: Notice of Succession and Revised Market-Based Rate Tariff to be effective 11/21/2023.

Filed Date: 11/20/23.

Accession Number: 20231120-5067.

Comment Date: 5 p.m. ET 12/11/23.

Docket Numbers: ER24-444-000.

Applicants: Deriva Energy Beckjord Storage LLC.

Description: Compliance filing: Notice of Succession and Revised Market-Based Rate Tariff to be effective 11/21/2023.

Filed Date: 11/20/23.

Accession Number: 20231120-5069.

Comment Date: 5 p.m. ET 12/11/23.

Docket Numbers: ER24-445-000.

Applicants: Alabama Power Company, Georgia Power Company, Mississippi Power Company.

Description: Tariff Amendment: Alabama Power Company submits tariff filing per 35.15: Photosol US Renewable Energy (Bayou Solar) LGIA Termination Filing to be effective 11/20/2023.

Filed Date: 11/20/23.

Accession Number: 20231120-5070.

Comment Date: 5 p.m. ET 12/11/23.

Docket Numbers: ER24-446-000.

Applicants: Alabama Power Company, Georgia Power Company, Mississippi Power Company.

Description: Tariff Amendment: Alabama Power Company submits tariff filing per 35.15: Photosol US Renewable Energy (Mobile River Solar 1) LGIA Termination Filing to be effective 11/20/2023.

Filed Date: 11/20/23.

Accession Number: 20231120-5071.

Comment Date: 5 p.m. ET 12/11/23.

Docket Numbers: ER24-447-000.

Applicants: Santa Paula Energy Storage, LLC.

Description: § 205(d) Rate Filing: Santa Paula Energy Storage, LLC Co-Tenancy and Shared Facilities Agreement to be effective 11/21/2023.

Filed Date: 11/20/23.

Accession Number: 20231120-5076.

Comment Date: 5 p.m. ET 12/11/23.

Docket Numbers: ER24-448-000.

Applicants: ITC Midwest LLC.

Description: Baseline eTariff Filing: Filing of Contribution in Aid and Construction Agreement_ITC Midwest RS 231 to be effective 1/20/2024.

Filed Date: 11/20/23.

Accession Number: 20231120-5129.

Comment Date: 5 p.m. ET 12/11/23.

Docket Numbers: ER24-449-000.

Applicants: PJM Interconnection, L.L.C.

Description: § 205(d) Rate Filing: Original NSA, SA No. 7131; Queue No. W1-108 to be effective 1/20/2024.

Filed Date: 11/20/23.

Accession Number: 20231120-5151.

Comment Date: 5 p.m. ET 12/11/23.

Docket Numbers: ER24-450-000.

Applicants: PJM Interconnection, L.L.C.

Description: § 205(d) Rate Filing: Revisions to OA, Sch. 12 and RAA, Sch 17 re: 3Q 2023 Membership Lists to be effective 9/30/2023.

Filed Date: 11/20/23.

Accession Number: 20231120-5156.

Comment Date: 5 p.m. ET 12/11/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 20, 2023.
Debbie-Anne A. Reese,
Deputy Secretary.

[FR Doc. 2023-26071 Filed 11-24-23; 8:45 am]

BILLING CODE 6717-01-P